INTERNATIONAL TRADE COMMISSION

[Investigation No. 731-TA-851 (Final)]

Synthetic Indigo From China

Determination

On the basis of the record ¹ developed in the subject investigation, the United States International Trade Commission determines, pursuant to section 735(b) of the Tariff Act of 1930 (19 U.S.C. 1673d(b)) (the Act), that an industry in the United States is materially injured by reason of imports from China of synthetic indigo, provided for in subheadings 3204.15.10, 3204.15.40, and 3204.15.80 of the Harmonized Tariff Schedule of the United States, that have been found by the Department of Commerce to be sold in the United States at less than fair value (LTFV). The Commission further determines that critical circumstances exist with regard to imports of the subject merchandise.²

¹ The record is defined in sec. 207.2(f) of the Commission's Rules of Practice and Procedure (19 CFR § 207.2(f)).

² Commissioners Stephen Koplan and Thelma J. Askey found that critical circumstances do not exist with regard to imports of the subject merchandise.

Background

The Commission instituted this investigation effective June 30, 1999 following receipt of a petition filed with the Commission and the Department of Commerce by Buffalo Color Corporation, Parsippany, NJ, and the United Steelworkers of America, AFL-CIO/CLC. The final phase of the investigation was scheduled by the Commission following notification of a preliminary determination by the Department of Commerce that imports of synthetic indigo from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of December 30, 1999 (64 FR 73581). The hearing was held in Washington, DC, on May 2, 2000, and all persons who requested the opportunity were permitted to appear in person or by counsel.

The Commission transmitted its determination in this investigation to the Secretary of Commerce on June 12, 2000. The views of the Commission are contained in USITC Publication 3310 (June 2000), entitled Synthetic Indigo from China: Investigation No. 731-TA-851 (Final).

By order of the Commission.
Issued: June 13, 2000.
Donna R. Koehnke,
Secretary.

[FR Doc. 00-15383 Filed 6-16-00; 8:45 am]

BILLING CODE 7020-02-P